DEPARTMENT OF ENERGY

Federal Energy Regulatory Commission

[Project No. 2911-035]

Four Dam Pool Power Agency, Southeast Alaska Power Agency; Notice of Application for Transfer of License, and Soliciting Comments, Motions To Intervene, and Protests

November 14, 2008.

On October 6, 2008, Four Dam Pool Power Agency (Transferor) and Southeast Alaska Power Agency (Transferee) filed an application, for transfer of license of the Swan Lake Project, located on Falls Creek in Ketchikan, Alaska.

Applicants seek Commission approval to transfer the license for the Four Dam Pool Power Agency to Southeast Alaska Power Agency.

Applicant Contact: Mr. William H. Prentice, Ater Wynne LLP, 222 SW Columbia Street, Suite 1800, Portland, OR 97201-6618, phone (503) 226-1191.

FERC Contact: Robert Bell, (202) 502-6062.

Deadline for filing comments, motions to intervene: 30 days from the issuance of this notice. Comments, motions to intervene, and notices of intent may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-2911-035) in the docket number field to access the document. For assistance, call toll-free 1-866-208-3372.

Kimberly D. Bose,
Secretary.

[FR Doc. E8-27569 Filed 11-19-08; 8:45 am]

BILLING CODE 6717-01-P